DEPARTMENT OF THE INTERIOR

National Park Service

[NPS-SER-CONG-30500; PS.SSELA0303.00.1]

Minor Boundary Revision at Congaree National Park

AGENCY: National Park Service, Interior.

ACTION: Notification of Boundary Revision.

SUMMARY: The boundary of Congaree National Park is modified to include approximately 216.13 acres of land located in Richland County, South Carolina, immediately adjacent to the boundary of Congaree National Park. Subsequent to the boundary revision, the National Park Service will acquire the land by donation from The Friends of Congaree, a nonprofit conservation organization.

DATES: The effective date of this boundary revision is January 21, 2021.

ADDRESSES: The map depicting this boundary revision is available for inspection at the following locations: National Park Service, Land Resources Program Center, Interior Region 2, Atlanta Office, 100 Alabama Street SW, Atlanta GA 30303, and National Park Service, Department of the Interior, 1849 C Street, NW, Washington, DC 20240.

FOR FURTHER INFORMATION CONTACT: Realty Officer John C. Danner, National Park Service, Land Resources Program Center, Interior Region 2, Atlanta Office, 100 Alabama Street SW, Atlanta GA 30303, telephone (470) 513-4301.

SUPPLEMENTARY INFORMATION: Notice is hereby given that, pursuant to 54 U.S.C. 100506(c), the boundary of Congaree National Park is modified to include one adjoining tract containing a total of 216.13 acres of land, more or less. This boundary revision is depicted on Map No. 178/171,144, dated September 2020.

54 U.S.C. 100506(c) provides that, after notifying the House Committee on Natural Resources and the Senate Committee on Energy and Natural Resources, the Secretary of the Interior is authorized to make a boundary revision upon publication of notice in the Federal Register. The Committees have been notified of this boundary revision. This boundary revision and subsequent acquisition will ensure preservation and protection of the park's scenic and historic resources.

Lance Hatten,
Acting Regional Director, Interior Region 2.

[FR Doc. 2021-01162 Filed 1-19-21; 8:45 am]

BILLING CODE 4312-52-P